DEPARTMENT OF TRANSPORTATION

Federal Aviation Administration

Notice of Intent To Rule on Application 05-04-C-00-VCT To Impose and Use the Revenue From a Passenger Facility Charge (PFC) at Victoria Regional Airport, Victoria, TX

AGENCY: Federal Aviation Administration, (FAA), DOT.

ACTION: Notice of Intent to Rule on Application.

SUMMARY: The FAA proposes to rule and invites public comment on the application to impose and use the revenue from a PFC at Victoria Regional Airport under the provisions of the Aviation Safety and Capacity Expansion Act of 1990 (Title IX of the Omnibus Budget Reconciliation Act of 1990) (Pub. L. 101-508) and Part 158 of the Federal Aviation Regulations (14 CFR Part 158).

DATES: Comments must be received on or before March 24, 2005.

ADDRESSES: Comments on this application may be mailed or delivered in triplicate copies to the FAA at the following address: Mr. G. Thomas Wade, Federal Aviation Administration, Southwest Region, Airports Division, Planning and Programming Branch, ASW-611, Fort Worth, TX 76193-0610.

In addition, one copy of any comments submitted to the FAA must be mailed or delivered to Mr. Patrick Rhoes, Manager of Victoria Regional Airport at the following address: Airport Manager, Victoria Regional Airport, 609 Foster Field Drive, Victoria, TX 77904.

Air carriers and foreign air carriers may submit copies of the written comments previously provided to the Airport under § 158.23 of Part 158.

FOR FURTHER INFORMATION CONTACT: Mr. G. Thomas Wade, Federal Aviation Administration, Southwest Region, Airports Division, Planning and Programming Branch, ASW-611, Forth Worth, TX 76193-0610, (817) 222-5613.

The application may be reviewed in person at this same location.

SUPPLEMENTARY INFORMATION: The FAA proposes to rule and invites public comment on the application to impose and use the revenue from a PFC at Victoria Regional Airport under the provisions of the Aviation Safety and Capacity Expansion Act of 1990 (Title IX of the Omnibus Budget Reconciliation Act of 1990) (Pub. L. 101-508) and Part 158 of the Federal Aviation Regulations (14 CFR Part 158).

On February 14, 2005, the FAA determined that the application to impose and use the revenue from a PFC submitted by the Airport was substantially complete within the requirements of § 158.25 of Part 158. The FAA will approve or disapprove the application, in whole or in part, no later than May 20, 2005.

The following is a brief overview of the application.

Level of the proposed PFC: $4.50.

Proposed charge effective date: July 1, 2005.

Proposed charge expiration date: January 1, 2010.

Total estimated PFC revenue: $281,617.

PFC application number: 05-04-C-00-VCT.

Brief description of proposed project(s):

Projects To Impose and Use PFC's

1. Rehabilitate Runway 12L/30L (Phase II)

2. Improve Runway Safety Areas

3. Improve Airport Drainage

4. Rehabilitate Taxiways E and F (Partial)

5. Install Security Fencing

Proposed class or classes of air carriers to be exempted from collecting PFC's: None

Any person may inspect the application in person at the FAA office listed above under FOR FURTHER INFORMATION CONTACT and at the FAA regional Airports office located at: Federal Aviation Administration; Southwest Region, Airports Division, Planning and Programming Branch, ASW-610, 2601 Meacham Blvd., Forth Worth, TX 76137-4298.

In addition, any person may, upon request, inspect the application, notice and other documents germane to the application in person at Victoria Regional Airport.

Issued in Fort Worth, Texas on February 14, 2005.
D. Cameron Bryan,
Acting Manager, Airports Division.

[FR Doc. 05-3383 Filed 2-18-05; 8:45 am]

BILLING CODE 4910-13-M